ENVIRONMENTAL PROTECTION AGENCY

[EPA-HQ-OAR-2003-0052; FRL-9999-20-OMS]

Information Collection Request Submitted to OMB for Review and Approval; Comment Request; Risk Management Program Requirements and Petitions To Modify the List of Regulated Substances Under Section 112(r) of the Clean Air Act (Renewal)

AGENCY: Environmental Protection Agency.

ACTION: Notice.

SUMMARY: The Environmental Protection Agency (EPA) is submitting an information collection request (ICR), Risk Management Program Requirements and Petitions to Modify the List of Regulated Substances under section 112(r) of the Clean Air Act (EPA ICR Number 1656.16, OMB Control Number 2050-0144) to the Office of Management and Budget (OMB) for review and approval in accordance with the Paperwork Reduction Act. This is a proposed extension of the ICR. Public comments were previously requested via the Federal Register on September 11, 2018, during a 60-day comment period. This notice allows for an additional 30 days for public comments. A fuller description of the ICR is given below, including its estimated burden and cost to the public. An agency may not conduct or sponsor, and a person is not required to respond to, a collection of information unless it displays a currently valid OMB control number.

DATES: Comments must be submitted on or before September 30, 2019.

ADDRESSES: Submit your comments, referencing Docket ID No. EPA-HQ-OAR-2003-0052, online using www.regulations.gov (our preferred method), by email to superfund.docket@epa.gov or by mail to: EPA Docket Center, Environmental Protection Agency, Mail Code 28221T, 1200 Pennsylvania Ave. NW, Washington, DC 20460, and (2) OMB via email to oira_submission@omb.eop.gov. Address comments to OMB Desk Officer for EPA.

EPA's policy is that all comments received will be included in the public docket without change, including any personal information provided, unless the comment includes profanity, threats, information claimed to be Confidential Business Information (CBI) or other information whose disclosure is restricted by statute.

FOR FURTHER INFORMATION CONTACT: Wendy Hoffman, Office of Emergency Management, mail code 5104A, Environmental Protection Agency, 1200 Pennsylvania Ave. NW, Washington, DC 20460; telephone number: (202) 564-8794; fax number: (202) 564-2625; email address: hoffman.wendy@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: Section 112(r) of the Clean Air Act (CAA) mandates that EPA promulgate a list of “regulated substances” with threshold quantities and establish procedures for the addition and deletion of substances from the list of regulated substances. Processes at stationary sources that contain more than a threshold quantity of those regulated substance are subject to accidental release prevention regulations promulgated under CAA section 112(r)(7). These two rules are codified as 40 CFR part 68, which requires that sources with more than a threshold quantity of a regulated substance in a process develop, implement, and submit a risk management plan to EPA. EPA uses risk management plans to conduct oversight of regulated sources, and to communicate information concerning them to federal, state, and local agencies and the public, as appropriate.

The burden to sources that are currently covered by 40 CFR part 68 for initial rule compliance, including rule familiarization and program implementation, was accounted for in previous ICRs. The term “source” refers to a “stationary source,” which is the Clean Air Act term for facility. This information collection covers sources submitting an RMP update to comply with its five-year compliance deadline within this ICR period, sources that revised and resubmitted their RMPs between the five-year deadlines because of changes occurring at the source that triggered an earlier resubmission, and sources that have been assigned a different deadline in 2020, 2021 or 2022 based on the date of their most recent submission. In addition, this ICR accounts for burden for new sources that may become subject to the regulations, sources that have been out of compliance since the last regulatory deadline but are expected to comply during this ICR period, and sources that have deadlines beyond this ICR period but are required to comply with certain prevention program documentation requirements during this ICR period.

Form Numbers: Risk Management Plan Form: EPA Form 8700-25; CBI Substantiation Form: EPA Form 8700-27; CBI Unsanitized Data Element Form: EPA Form 8700-28.

Respondents/affected entities: Chemical manufacturers, petroleum refineries, water treatment systems, agricultural chemical distributors, refrigerated warehouses, chemical distributors, non-chemical manufacturers, wholesale fuel distributors, energy generation facilities, etc.

Respondent's obligation to respond: Mandatory (40 CFR part 68).

Estimated number of respondents: 13,009.

Frequency of response: Sources must resubmit RMPs at least every five years and update certain on-site documentation more frequently.

Total estimated burden: 66,793 hours (per year). Burden is defined at 5 CFR 1320.03(b).

Total estimated cost: $4,864,537 (per year), includes $0 annualized capital or operation & maintenance costs.

Changes in Estimates: This ICR includes an increase of 12,793 hours in the total estimated respondent burden for all sources and states compared to the ICR currently approved by OMB.

There are two primary reasons for this increase in burden. First, this ICR period includes a larger number of RMPs reported than the previous ICR period. Second, the burden varies from ICR to ICR due to different resubmission deadlines based on the sources' RMP re-submission deadlines and other regulatory deadlines. Therefore, the burden changes each year depending on how many sources are required to submit their RMP and comply with certain prevention program requirements. The number of sources subject to the regulations fluctuates regularly and is lower in this ICR than the previous ICR. However, any decrease in burden caused by the lower number of sources is offset by the increased burden from the major RMP reporting year.

Courtney Kerwin,
Director, Regulatory Support Division.

[FR Doc. 2019-18735 Filed 8-29-19; 8:45 am]

BILLING CODE 6560-50-P